DEPARTMENT OF ENERGY

Federal Energy Regulatory Commission

[Docket No. EG01-336-000, et al.]

Wellhead Power Gates, LLC, et al.; Electric Rate and Corporate Regulation Filings

September 28, 2001.

Take notice that the following filings have been made with the Commission:

1. Wellhead Power Gates, LLC

[Docket No. EG01-336-000]

Take notice that on September 26, 2001, Wellhead Power Gates, LLC a California limited liability company (Applicant), with its principal executive office at 650 Bercut Drive, Suite C, Sacramento, California 95814, tendered for filing with the Federal Energy Regulatory Commission (Commission), an application for determination of exempt wholesale generator status pursuant to part 365 of the Commission's regulations.

Applicant is in the process of developing a 49.9 MW (gross) gas fired electrical generating facility to be located in southeastern Fresno County near Huron, California. Applicant will be engaged directly and exclusively in the business of owning and operating one or more eligible facilities and selling electric energy at wholesale.

Copies of the application have been served upon the Public Utility Commission of the State of California and the Securities and Exchange Commission.

Comment date: October 19, 2001, in accordance with Standard Paragraph E at the end of this notice. The Commission will limit its consideration of comments to those that concern the adequacy or accuracy of the application.

2. Wellhead Power Pahoche, LLC

[Docket No. EG01-337-000]

Take notice that on September 26, 2001, Wellhead Power Panoche, LLC , a California limited liability company (Applicant), with its principal executive office at 650 Bercut Drive, Suite C, Sacramento, California 95814, filed with the Federal Energy Regulatory Commission (Commission), an application for determination of exempt wholesale generator status pursuant to Part 365 of the Commission's regulations.

Applicant is in the process of developing a 49.9 MW (gross) gas fired electrical generating facility to be located in southeastern Fresno County new Firebaugh, California. Applicant will be engaged directly and exclusively in the business of owning and operating one or more eligible facilities and selling electric energy at wholesale.

Copies of the application have been served upon the Public Utility Commission of the State of California and the Securities and Exchange Commission.

Comment date: October 19, 2001, in accordance with Standard Paragraph E at the end of this notice. The Commission will limit its consideration of comments to those that concern the adequacy or accuracy of the application.

3. MEP Pleasant Hill, LLC, MEP Pleasant Hill Operating, LLC, CPN Pleasant Hill Operating, LLC

[Docket Nos. EC01-155-000 and EL01-119-000]

Take notice that on September 26, 2001, MEP Pleasant Hill, LLC, MEP Pleasant Hill Operating, LLC, and CPN Pleasant Hill Operating, LLC (collectively, Applicants) filed with the Federal Energy Regulatory Commission an application pursuant to section 203 of the Federal Power Act for authorization of the disposition of jurisdictional facilities in connection with a sale and lease transaction involving the Aries Power Plant, a 600-MW natural gas-fired, combined cycle generating facility being constructed near Pleasant Hill, Cass County, Missouri. Applicants also request the Commission to issue an order disclaiming jurisdiction over certain passive participants in the transaction.

Comment date: October 26, 2001, in accordance with Standard Paragraph E at the end of this notice.

4. Southern California Edison Company

[Docket No. ER01-3114-000]

Take notice, that on September 26, 2001, Southern California Edison Company (SCE) tendered for filing with the Federal Energy Regulatory Commission (Commission) an Interconnection Facilities Agreement between SCE and the Pastoria Energy Facility, LLC (Pastoria Energy). This agreement specifies the terms and conditions pursuant to which SCE will interconnect 750 MW of generation to the California Independent System Operator Controlled Grid pursuant to SCE's Transmission Owner Tariff, FERC Electric Tariff, First Revised Original Volume No. 6.

SCE requests that this agreement become effective on September 25, 2001.

Copies of this filing were served upon the Public Utilities Commission of the State of California and Pastoria Energy.

Comment date: October 17, 2001, in accordance with Standard Paragraph E at the end of this notice.

5. Southern Company Services, Inc.

[Docket No. ER01-3115-000]

Take notice that on September 26, 2001, Southern Company Services, Inc. (SCS), acting on behalf of Gulf Power Company (Gulf), tendered for filing with the Federal Energy Regulatory Commission (Commission) an Interconnection Agreement (IA) by and between Gulf and Santa Rosa Energy LLC (Santa Rosa). The IA allows Santa Rosa to interconnect its generating facility to be located in Pace, Florida to Gulf “s electric system

An effective date of August 27, 2001 has been requested.

Comment date: October 17, 2001, in accordance with Standard Paragraph E at the end of this notice.

6. Michigan Electric Transmission Company

[Docket No. ER01-3116-000]

Take notice that on September 26, 2001, Michigan Electric Transmission Company (Michigan Transco) tendered for filing with the Federal Energy Regulatory Commission (Commission), a Letter Agreement with Panda Tallmadge Power, L.P. (Generator), dated August 30, 2001, (Agreement). Under the Agreement, certain preliminary construction activities are to be undertaken that are associated with providing an electrical connection between Michigan Transco's transmission system and a generating plant to be built by Generator. Michigan Transco requested that the Agreement be allowed to become effective August 30, 2001.

Copies of the filing were served upon Generator and the Michigan Public Service Commission.

Comment date: October 17, 2001, in accordance with Standard Paragraph E at the end of this notice.

7. Wellhead Power Gates, LLC

[Docket No. ER01-3117-000]

Take notice that on September 26, 2001, Wellhead Power Gates, LLC (Applicant) tendered for filing with the Federal Energy Regulatory Commission (Commission), under section 205 of the Federal Power Act, a request for authorization to sell electricity at market-based rates under its proposed market-based tariff.

Comment date: October 17, 2001, in accordance with Standard Paragraph E at the end of this notice.

8. Wellhead Power Panoche, LLC

[Docket No. ER01-3118-000]

Take notice that on September 26, 2001, Wellhead Power Panoche, LLC (Applicant) tendered for filing with the Federal Energy Regulatory Commission (Commission), under Section 205 of the Federal Power Act, a request for authorization to sell electricity at market-based rates under its proposed market-based tariff.

Comment date: October 17, 2001, in accordance with Standard Paragraph E at the end of this notice.

9. Central Maine Power Company

[Docket No. ER01-3119-000]

Take notice that on September 26, 2001, Central Maine Power Company (CMP), tendered for filing with the Federal Energy Regulatory Commission (Commission) an “Assignment and Assumption Agreement” between CMP, Northeast Empire Limited Partnership #1 (NELP) and Boralex Livermore Falls Inc. (Boralex). In accordance with Order No. 614, FERC Stats. & Regs. 31,096 (2000), CMP also tendered for filing a Revised Interconnection Agreement (the Revised IA), revised pursuant to the assignment transaction.

CMP respectfully requests that the Commission accept the Assignment and Assumption Agreement and the Revised IA effective as of September 10, 2001, without modification or condition, and grant waiver of any and all requirements, including the Commission's notice requirements for good cause, for these agreements to become effective. Copies of this filing have been served on NELP, Boralex, and the State of Maine Public Utilities Commission.

Comment date: October 17, 2001, in accordance with Standard Paragraph E at the end of this notice.

10. Kentucky Power Company

[Docket No. ER01-3120-000]

Take notice that on September 27, 2001, Kentucky Power Company tendered for filing with the Federal Energy Regulatory Commission (Commission), an unexecuted Interconnection and Operation Agreement between Kentucky Power Company and Foothills Generating, L.L.C. The agreement is pursuant to the AEP Companies' Open Access Transmission Service Tariff (OATT) that has been designated as the Operating Companies of the American Electric Power System FERC Electric Tariff Revised Volume No. 6, effective June 15, 2000.

AEP requests an effective date of November 26, 2001. Copies of Kentucky Power Company's filing have been served upon the Kentucky Public Service Commission.

Comment date: October 18, 2001, in accordance with Standard Paragraph E at the end of this notice.

11. Commonwealth Edison Company

[Docket No. ER01-3092-000]

Take notice that on September 21, 2001, Commonwealth Edison Company (ComEd), submitted for filing with the Federal Energy Regulatory Commission (Commission), a Service Agreement for Firm Point-to-Point Transmission Service (Service Agreement) with Split Rock Energy, LLC (Split Rock) under the terms of ComEd's Open Access transmission tariff (OATT).

ComEd requests an effective date of September 1, 2001, and accordingly requests waiver of the Commission's notice requirements. A copy of this filing has been sent to Split Rock.

Comment date: October 18, 2001, in accordance with Standard Paragraph E at the end of this notice.

12. PacifiCorp

[Docket No. ER01-3113-000]

Take notice that on September 26, 2001, PacifiCorp, tendered for filing with the Federal Energy Regulatory Commission (Commission), in accordance with 18 CFR Part 35 of the Commission's rules and regulations, a Network Integration Transmission Service Agreement with Bonneville Power Administration (Bonneville) under PacifiCorp's FERC Electric Tariff, Third Revised Volume No. 11 (Tariff).

Copies of this filing were supplied to the Washington Utilities and Transportation Commission and the Public Utility Commission of Oregon.

Comment date: October 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-24968 Filed 10-4-01; 8:45 am]

BILLING CODE 6717-01-P